DEPARTMENT OF HEALTH AND HUMAN SERVICES

Centers for Disease Control and Prevention

Advisory Committee on Childhood Lead Poisoning Prevention (ACCLPP): Meeting

In accordance with section 10(a)(2) of the Federal Advisory Committee Act (Pub. L. 92-463), the National Center for Environmental Health (NCEH) of the Centers for Disease Control and Prevention (CDC) announces the following committee meeting.

Name: Advisory Committee on Childhood Lead Poisoning Prevention.

Time and Date: 8:30 a.m.-5:30 p.m., March 18, 2003.

Place: Hilton—Crystal City at National Airport, 2399 Jefferson Davis Highway, Arlington, VA 22202, telephone 703/418-6800.

Status: Open to the public, limited only by the space available. The meeting room accommodates approximately 55 people.

Purpose: The Committee shall provide advice and guidance to the Secretary; the Assistant Secretary for Health; and the Director, CDC, regarding new scientific knowledge and technological developments and their practical implications for childhood lead poisoning prevention efforts. The Committee shall also review and report regularly on childhood lead poisoning prevention practices and recommend improvements in national childhood lead poisoning prevention efforts.

Matters to be Discussed: Agenda items include: Updates on Primary Prevention issues, Medicaid Targeted Screening, Review of Evidence for Effects at Blood Lead Levels <10 μg/dL issues, Screening of Immigrant/Adopted Children, and Study of Relationship of Environmental Tobacco Smoke and Blood Lead Levels.

Agenda items are subject to change as priorities dictate.

Opportunities will be provided during the meeting for oral comments. Depending on the time available and the number of requests, it may be necessary to limit the time of each presenter.

Contact Person for More Information: Crystal M. Gresham, Program Analyst, Lead Poisoning Prevention Branch, Division of Emergency and Environmental Health Services, NCEH, CDC, 1600 Clifton Road, NE., M/S F-30, Atlanta, Georgia 30333, telephone 770/488-7490, fax 770/488-4178.

The Director, Management Analysis and Services Office, has been delegated the authority to sign Federal Register notices pertaining to announcements of meetings and other committee management activities for both the Centers for Disease Control and Prevention and the Agency for Toxic Substances and Disease Registry.

Dated: February 28, 2003.
Alvin Hall,
Director, Management Analysis and Services Office, Centers for Disease Control and Prevention.

[FR Doc. 03-5247 Filed 3-5-03; 8:45 am]

BILLING CODE 4163-18-P